DEPARTMENT OF HEALTH AND HUMAN SERVICES

Administration for Children and Families

Submission for OMB Review; Understanding Children's Transitions From Head Start to Kindergarten (HS2K) (New Collection)

AGENCY: Office of Planning, Research, and Evaluation, Administration for Children and Families, HHS.

ACTION: Request for public comment.

SUMMARY: The Administration for Children and Families (ACF) at the U.S. Department of Health and Human Services (HHS) seeks approval to conduct semi-structured, qualitative interviews with Head Start staff (grantee administrators, managers/coordinators, center directors, teachers, staff), parents, affiliated community providers, and partner Local Education Agency (LEA) staff (administrators, elementary school principals, staff, and kindergarten teachers) at six sites. A comparative case study design will explore varying strategies and approaches to supporting children's transitions from Head Start to kindergarten.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The proposed case studies intend to study the transition strategies and approaches employed, across various levels, both within and across the Head Start and elementary school systems. The case studies focus on how relationships across systems support coordinated transition practices, which are hypothesized to lead to the most positive outcomes for children, families, and teachers. Qualitative data collection protocols will explore how the supports for and implementation of transition approaches vary amongst Head Start grantees/delegates, Head Start centers, elementary schools, and LEAs within the same communities, including contextual factors that support or hinder meaningful collaboration.

Respondents: Head Start administrators, LEA administrators, Head Start center directors, elementary school principals, Head Start teachers, kindergarten teachers, elementary school staff, Head Start managers & coordinators, Head Start parents/families (pre- and post-kindergarten transition), Community Service Providers.

Annual Burden Estimates
Instrument | Number of respondents (total over request period) | Number of responses per respondent (total over request period) | Avg. Burden per response (in hours) | Total burden (in hours) | Annual burden (in hours)
Supplemental Materials A: Initial outreach and recruitment scripts for Programs and Schools (Head Start grantee and delegate agency administrator, Local Education Agency administrator, Head Start Center Director, elementary principal | 36 | 1.3 | 1.3 | 46.8 | 23.4
Supplemental Materials B: Initial Outreach and Recruitment Scripts for Head Start Families | 72 | 1 | .25 | 18 | 9
Administrator Interview Protocol (Head Start grantee and delegate agency administrator, Local Education Agency administrator) | 30 | 1 | 1 | 30 | 15
Site Leadership Interview Protocol (Head Start Center Director, elementary principal) | 12 | 1 | 1.25 | 15 | 7.5
Teacher & Staff Interview Protocol (Head Start teacher, kindergarten teacher, elementary staff) | 30 | 1 | .80 | 24 | 12
Head Start Manager/Coordinator Interview Protocol | 12 | 1 | 1.25 | 15 | 7.5
Head Start Family Background Questionnaire | 48 | 1 | .25 | 12 | 6
Head Start Family Focus Group Protocol | 48 | 1 | 1.25 | 60 | 30
Kindergarten Family Interview Protocol | 12 | 1 | .75 | 9 | 4.5
Community Partner Interview Protocol | 6 | 1 | 1 | 6 | 3
Social Network Instrument | 90 | 1 | .25 | 22.5 | 11.25

Estimated Total Annual Burden Hours: 129.15.

Authority: 42 U.S.C. Section 9835 and 42 U.S.C. Section 9844.

Mary B. Jones,
ACF/OPRE Certifying Officer.

[FR Doc. 2021-17262 Filed 8-11-21; 8:45 am]

BILLING CODE 4184-22-P